INTERNATIONAL TRADE COMMISSION

[Investigation No. 731-TA-1536 (Final) (Remand)]

Methionine From Spain

AGENCY: United States International Trade Commission.

ACTION: Notice of remand proceedings.

SUMMARY: The U.S. International Trade Commission (“Commission”) hereby gives notice of the procedures it intends to follow to comply with the court-ordered remand of its final determination in the antidumping duty investigation of methionine from Spain. For further information concerning the conduct of these remand proceedings and rules of general application, consult the Commission's Rules of Practice and Procedure.

DATES: January 11, 2024.

FOR FURTHER INFORMATION CONTACT: Calvin Chang ((202) 205-3358), Office of Investigations, or Noah Meyer ((202) 708-1521), Office of General Counsel, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for Investigation Nos. 731-TA-1535-1536 (Final) may be viewed on the Commission's electronic docket (EDIS) at https://edis.usitc.gov.

SUPPLEMENTARY INFORMATION:

Background.—In June 2021, the Commission unanimously determined that a domestic industry was materially injured by reason of imports of methionine from France. Methionine from France, Inv. No. 731-TA-1534 (Final), USITC Pub. 5206 (June 2021). In September 2021, the Commission determined that an industry in the United States was materially injured by reason of imports of methionine from Japan and Spain that were sold in the United States at less than fair value. Methionine from Japan and Spain, Inv. Nos. 731-TA-1535-1536 (Final), USITC Pub. 5230 (Sept. 2021). Respondents, Adisseo Espana S.A. and Adisseo USA Inc., contested the Commission's determination regarding Spain before the U.S. Court of International Trade (“CIT”). The CIT remanded the Commission's determination for the agency to reconsider “the probative value and factual accuracy of the volume of alleged lost sales used to support a finding of adverse price effects in view of the competing methodology proffered by Adisseo in its posthearing brief.” Adisseo Espana S.A. et al v. United States, Order accompanying Slip Op. 23-178 (Ct. Int'l Trade, Dec. 18, 2023).

Participation in the remand proceedings.—Only those persons who were interested parties that participated in the investigation of Methionine from Spain and were also parties to the appeal may participate in these remand proceedings. Such persons need not file any additional appearances with the Commission to participate in the remand proceedings, unless they are adding new individuals to the list of persons entitled to receive business proprietary information (“BPI”) under administrative protective order (“APO”). BPI referred to during the remand proceedings will be governed, as appropriate, by the APO issued in the investigations. The Secretary will maintain a service list containing the names and addresses of all persons or their representatives who are parties to the remand proceedings, and the Secretary will maintain a separate list of those authorized to receive BPI under the administrative protective order during the remand proceedings.

Written submissions.—The Commission is not reopening the record and will not accept the submission of new factual information for the record. The Commission will permit the parties entitled to participate in the remand proceedings to file comments concerning how the Commission could best comply with the court's remand instructions.

The comments must be based solely on the information in the Commission's record. The Commission will reject submissions containing additional factual information or arguments pertaining to issues other than those on which the court has remanded this matter. The deadline for filing comments is Feb 16, 2024. Comments must be limited to no more than ten (10) double-spaced and single-sided pages of textual material, inclusive of attachments and exhibits.

Parties are advised to consult with the Commission's Rules of Practice and Procedure, part 201, subparts A through E (19 CFR part 201), and part 207, subpart A (19 CFR part 207) for provisions of general applicability concerning written submissions to the Commission. All written submissions must conform to the provisions of section 201.8 of the Commission's rules; any submissions that contain BPI must also conform with the requirements of sections 201.6, 207.3, and 207.7 of the Commission's rules. Please note the Secretary's Office will accept only electronic filings at this time. Filings must be made through the Commission's Electronic Document Information System (EDIS, https://edis.usitc.gov). No in-person paper-based filings or paper copies of any electronic filings will be accepted until further notice. The Commission's Handbook on E-Filing, available on the Commission's website at http://edis.usitc.gov, elaborates upon the Commission's rules with respect to electronic filing.

Additional written submissions to the Commission, including requests pursuant to section 201.12 of the Commission's rules, will not be accepted unless good cause is shown for accepting such submissions or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

By order of the Commission.
Issued: January 11, 2024.
Lisa Barton,
Secretary to the Commission.

[FR Doc. 2024-00776 Filed 1-16-24; 8:45 am]

BILLING CODE 7020-02-P